DEPARTMENT OF EDUCATION

Office of Postsecondary Education; Overview Information; Minority Science and Engineering Improvement Program (MSEIP); Notice Inviting Applications for New Awards for Fiscal Year (FY) 2006

Catalog of Federal Domestic Assistance (CFDA) Number: 84.120A

Dates: Applications Available: June 7, 2006.

Deadline for Transmittal of Applications: July 24, 2006.

Deadline for Intergovernmental Review: September 20, 2006.

Eligible Applicants: The eligibility of an applicant is dependent on the type of MSEIP project. There are four types of MSEIP projects: institutional, design, special projects, and cooperative. We will not award design grants in the FY 2006 competition.

A. For institutional, design, and special projects described in 34 CFR 637.12 through 637.14, eligible applicants include public and private nonprofit minority institutions of higher education as defined in section 361(1) and (2) of the Higher Education Act of 1965, as amended (HEA).

B. For special projects described in 34 CFR 637.14(b) and (c), eligible applicants are, in addition to those described in paragraph A, nonprofit science-oriented organizations, professional scientific societies, and institutions of higher education that award baccalaureate degrees and meet the requirements of section 361(3) of the HEA, and consortia of organizations that meet the requirements of section 361(4) of the HEA.

C. For cooperative projects described in 34 CFR 637.15, eligible applicants are groups of nonprofit accredited colleges and universities whose primary fiscal agent is an eligible minority institution as defined in 34 CFR 637.4(b).

Note: As defined in 34 CFR 637.4(b), a minority institution means an accredited college or university whose enrollment of a single minority group or combination of minority groups exceeds 50 percent of the total enrollment.

Estimated Available Funds: $3,273,443.

Estimated Range of Awards: Institutional Project Grant: $25,000-$200,000. Special Project Grant: $25,000-$100,000. Cooperative Project Grant: $100,000-$300,000.

Estimated Number of Awards:

Institutional Project Grant: 14.

Special Project Grant: 14.

Cooperative Project Grant: 4.

Estimated Average Size of Awards: Institutional Project Grant: $120,000. Special Project Grant: $50,000. Cooperative Project Grant: $200,000.

Maximum Awards: Institutional Project Grant: $200,000. Special Project Grant: $100,000. Cooperative Project Grant: $300,000. We will not fund any application at an amount exceeding the maximum amounts specified above for a single budget period of 12 months. We may choose not to further consider or review applications with budgets that exceed the maximum amounts specified above, if we conclude, during our initial review of the application, that the proposed goals and objectives cannot be obtained with the specified maximum amount.

Note: The Department is not bound by any estimates in this notice. Applicants should periodically check the MSEIP Web site for further information on this program. The address is: http://www.ed.gov/programs/iduesmsi/index.html.

Project Period: Up to 36 months.

Full Text of Announcement

I. Funding Opportunity Description

Purpose of Program: The MSEIP is designed to effect long-range improvement in science and engineering education at predominantly minority institutions and to increase the flow of underrepresented ethnic minorities, particularly minority women, into scientific and technological careers.

Priorities: In accordance with 34 CFR 75.105(b)(2)(iv), these priorities are from allowable activities specified in section 352 of the HEA (20 U.S.C. 1067b(b)).

Competitive Preference Priorities: For FY 2006 these priorities are competitive preference priorities. Under 34 CFR 75.105(c)(2)(i), we award an additional 5 points to an application that meets Competitive Preference Priority 1. Under 34 CFR 75.105(c)(2)(ii), we give preference to an application that meets Competitive Preference Priority 2 and Competitive Preference Priority 3 over an application of comparable merit that does not meet these priorities.

These priorities are:

Competitive Preference Priority 1. Applications from institutions that have not received a MSEIP grant within five years prior to this competition.

Competitive Preference Priority 2. Applications from previous grantees with a proven record of success.

Competitive Preference Priority 3. Applications that contribute to achieving balance among funded projects with respect to—(a) geographic region; (b) academic discipline; and (c) project type.

Invitational Priorities: For FY 2006 these priorities are invitational priorities. Under 34 CFR 75.105(c)(1) we do not give an application that meets these invitational priorities a competitive or absolute preference over other applications.

These priorities are:

Invitational Priority 1. Applications that focus on the development of bridge programs that target pre-freshmen entering into science, technology, engineering, or mathematics (STEM) fields.

Invitational Priority 2. Applications that focus directly on student learning that encourage and facilitate implementation of new pedagogical approaches such as web-based course strategies or interactive course modules to increase student retention in STEM fields.

Invitational Priority 3. Applications that focus on mentoring programs designed to increase the number of underrepresented student graduates with STEM undergraduate majors.

Program Authority: 20 U.S.C. 1067-1067k.

Applicable Regulations: (a) The Education Department General Administrative Regulations (EDGAR) in 34 CFR parts 74, 75, 77, 79, 82, 84, 85, 86, 97, 98, and 99. (b) The regulations for this program in 34 CFR part 637.

Note: The regulations in 34 CFR part 86 apply to institutions of higher education only.

II. Award Information

Type of Award: Discretionary grant.

Estimated Available Funds: $3,273,443.

Estimated Range of Awards: Institutional Project Grant: $25,000-$200,000. Special Project Grant: $25,000-$100,000. Cooperative Project Grant: $100,000-$300,000.

Estimated Number of Awards:

Institutional Project Grant: 14.

Special Project Grant: 14.

Cooperative Project Grant: 4.

Estimated Average Size of Awards:

Institutional Project Grant: $120,000.

Special Project Grant: $50,000.

Cooperative Project Grant: $200,000.

Maximum Awards: Institutional Project Grant: $200,000. Special Project Grant: $100,000. Cooperative Project Grant: $300,000. We will not fund any application at an amount exceeding the maximum amounts specified above for a single budget period of 12 months. We may choose not to further consider or review applications with budgets that exceed the maximum amounts specified above, if we conclude, during our initial review of the application, that the proposed goals and objectives cannot be obtained with the specified maximum amount.

Note: The Department is not bound by any estimates in this notice. Applicants should periodically check the MSEIP Web site for further information on this program. The address is: http://www.ed.gov/programs/iduesmsi/index.html.

Project Period: Up to 36 months.

III. Eligibility Information

1. Eligible Applicants: The eligibility of an applicant is dependent on the type of MSEIP project. There are four types of MSEIP projects: Institutional, design, special projects, and cooperative. We will not award design grants in the FY 2006 competition.

A. For institutional, design, and special projects described in 34 CFR 637.12 through 637.14, eligible applicants include public and private nonprofit minority institutions of higher education as defined in section 361(1) and (2) of the HEA.

B. For special projects described in 34 CFR 637.14(b) and (c), eligible applicants are, in addition to those described in paragraph A, nonprofit science-oriented organizations, professional scientific societies, institutions of higher education that award baccalaureate degrees and meet the requirement of section 361(3) of the HEA, and consortia of organizations that meet the requirements of section 361(4) of the HEA. C. For cooperative projects described in 34 CFR 637.15, eligible applicants are groups of nonprofit accredited colleges and universities whose primary fiscal agent is an eligible minority institution as defined in 34 CFR 637.4(b).

Note: As defined in 34 CFR 637.4(b), a minority institution means an accredited college or university whose enrollment of a single minority group or combination of minority groups (as defined in 34 CFR 637.4 (b)) exceeds 50 percent of the total enrollment.

2. Cost Sharing or Matching: This program has no cost sharing or matching requirements.

IV. Application and Submission Information

1. Address to Request Application Package: Ms. Carolyn Proctor, Institutional Development and Undergraduate Education Service, U.S. Department of Education, 1990 K Street, NW., 6th floor, Room 6048, Washington, DC 20006-8517. Telephone: (202) 502-7567, by fax (202) 502-7861 or by e-mail: Carolyn.Proctor@ed.gov or OPE.MSEIP.ED.GOV.

If you use a telecommunications device for the deaf (TDD), you may call the Federal Relay Service (FRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package and instructions for this program. Page Limit: The application narrative (Part III of the application) is where you, the applicant, address the criteria that reviewers use to evaluate your application. We have established a mandatory page limit for the narrative portion for each type of project application. The page limits are as follows: Institutional Project Application: 40 pages. Special Projects Application: 35 pages. Cooperative Project Application: 50 pages. You must use the following standards:

• A “page” is 8.5″ x 11″, on one side only, with 1″ margins at the top, bottom, and both sides. Page numbers and a document identifier may be within the 1″ margin.

• Double space (no more than three lines per vertical inch) all text in the application narrative, except titles, headings, footnotes, quotations, references, captions and all text in charts, tables, and graphs.

• Use one of the following fonts: Times New Roman, Courier, Courier New, or Arial. Applications submitted in any other font (including Times Roman and Arial Narrow) will not be accepted.

• Use not less than a 12-point font.

The page limit does not apply to the following forms required by the Department: Application for Federal Assistance (SF 424); Department of Education Supplemental Information Form for SF 424; U.S. Department of Education Budget Information for Non-Construction Programs (ED 524); ED Abstract Form; Other Attachment Form; ED GEPA 427 Form; Assurances for Non-Construction Programs (SF 424B); Grants.gov Lobbying Form (formerly Certification Regarding Lobbying (ED 80-0013)); Disclosure of Lobbying Activities (SF-LLL); Certification Regarding Debarment, Suspension, Ineligibility and Voluntary Exclusion—Lower Tier Covered Transactions (ED 80-0014), and Survey on Ensuring Equal Opportunity for Applicants.

The page limit also does not apply to the program abstract or should you decide to include one, a table of contents. If you include any attachments or appendices, these items will be counted as part of the Program Narrative (Part III of the application) for purposes of the page limit requirement. You must include your complete response to the selection criteria in the program narrative.

We will reject your application if—

• You apply these standards and exceed the page limit; or

• You apply other standards and exceed the equivalent of the page limit.

3. Submission Dates and Times: Applications Available: June 7, 2006.

Deadline for Transmittal of Applications: July 24, 2006.

Deadline for Intergovernmental Review: September 20, 2006.

Applications for grants under this program competition must be submitted electronically using the Grants.gov Apply site (Grants.gov). For information (including dates and times) about how to submit your application electronically or by mail or hand delivery if you qualify for an exception to the electronic submission requirement, please refer to section IV.6. Other Submission Requirements in this notice.

We do not consider an application that does not comply with the deadline requirements.

Deadline for Intergovernmental Review: September 20, 2006.

4. Intergovernmental Review: This program is subject to Executive Order 12372 and the regulations in 34 CFR Part 79. Information about Intergovernmental Review of Federal Programs under Executive Order 12372 is in the application package for this program.

5. Funding Restrictions: We reference the regulations outlining funding restrictions in the Applicable Regulations section of this notice.

6. Other Submission Requirements: Applications for grants under this program must be submitted electronically unless you qualify for an exception to this requirement in accordance with the instructions in this section.

a. Electronic Submission of Applications. Applications for grants under the Minority Science and Engineering Improvement Program (MSEIP)—CFDA Number 84.120A must be submitted electronically using the Grants.gov Apply site at: http://www.grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the MSEIP at: http://www.grants.gov. You must search for the downloadable application package for this program by the CFDA number. Do not include the CFDA number's alpha suffix in your search.

Please note the following:

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time on the application deadline date.

• The amount of time it can take to upload an application will vary depending on a variety of factors including the size of the application and the speed of your Internet connection. Therefore, we strongly recommend that you do not wait until the application deadline date to begin the submission process through Grants.gov.

• You should review and follow the Education Submission Procedures for submitting an application through Grants.gov that are included in the application package for this program competition to ensure that you submit your application in a timely manner to the Grants.gov system. You can also find the Education Submission Procedures pertaining to Grants.gov at http://e-grants.ed.gov/help/GrantsgovSubmissionProcedures.pdf.

• To submit your application via Grants.gov, you must complete all the steps in the Grants.gov registration process (see http://www.grants.gov/GetStarted). These steps include (1) Registering your organization, (2) registering yourself as an Authorized Organization Representative (AOR), and (3) getting authorized as an AOR by your organization. Details on these steps are outlined in the Grants.gov 3-Step Registration Guide (see http://www.grants.gov/assets/GrantsgovCoBrandBrochure8X11.pdf). You must also provide on your application the same D-U-N-S Number used with this registration. Please note that the registration process may take five or more business days to complete and you must have completed all registration steps to allow you to successfully submit an application via Grants.gov.

• You will not receive additional point value because you submit your application in electronic format, nor will we penalize you if you qualify for an exception to the electronic submission requirement, as described elsewhere in this section, and submit your application in paper format.

• You must submit all documents electronically, including all information typically included on the Application for Federal Education Assistance (SF 424), Budget Information—Non-Construction Programs (ED 524), and all necessary assurances and certifications. You must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of Technical Issues with the Grants.gov System: If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact either of the persons listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a federal holiday, the next business day following the federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Dr. Bernadette Hence, U.S. Department of Education, 1990 K Street, NW., Room 6071, Washington, DC 20006-8513. Fax: (202) 502-7861.

Your paper application must be submitted in accordance with the mail or hand delivery instructions described in this notice.

b. Submission of Paper Applications by Mail. If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.120A), 400 Maryland Avenue, SW., Washington, DC 20202-4260; or

By mail through a commercial carrier: U.S. Department of Education, Application Control Center—Stop 4260, Attention: (CFDA Number 84.120A), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you qualify for an exception to the electronic submission requirement, you (or a courier service) may deliver your paper application to the Department by hand. You must deliver the original and two copies of your application, by hand, on or before the application deadline date, to the Department at the following address: U.S. Department of Education, Application Control Center, Attention: (CFDA Number 84.120A), 550 12th Street, SW., Room 7067, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the Application for Federal Education Assistance (SF 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this program competition are from 34 CFR 637.32(a) through (j), and are listed below. Applicants must address each of the section criteria. The total weight of the selection criteria is 100 points; the weight of each criterion is noted in parentheses.

(a) Plan of operation (Total 15 points).

(b) Quality of key personnel (Total 5 points).

(c) Budget and cost effectiveness (Total 5 points).

(d) Evaluation plan (Total 10 points).

(e) Adequacy of resources (Total 5 points).

(f) Identification of need for the project (Total 20 points).

(g) Potential institutional impact of the project (Total 10 points).

(h) Institutional commitment to the project (Total 10 points).

(i) Expected Outcomes (Total 15 points).

(j) Scientific and educational value of the proposed project (Total 5 points).

2. Review and Selection Process: Additional factors we consider in selecting an application for an award are in 34 CFR 75.217.

Tiebreaker for Institutional, Special Project, and Cooperative Grants. If there are insufficient funds for all applications with the same total scores, applications will receive preference in the following order: first, applications that satisfy the requirement of Competitive Preference Priority 1; second, the applications that satisfy the requirements of both Competitive Preference Priorities 2 and 3; and third, applications that satisfy the requirements of Competitive Preference Priority 2.

VI. Award Administration Information

1. Award Notices: If your application is successful, we will notify your U.S. Representative and U.S. Senators and send you a Grant Award Notice (GAN). We may also notify you informally.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report including financial information as directed by the Secretary. If you receive a multi-year award, you must provide an annual performance report that provides the most current performance and financial expenditure information as specified by the Secretary in 34 CFR 75.118 and 34 CFR 75.720.

4. Performance Measures: The Secretary has established the following key performance measures for assessing the effectiveness of the MSEIP program: (1) The percentage change in the number of full-time, degree-seeking minority undergraduate students at grantee institutions enrolled in the fields of engineering or physical or biological sciences, compared to the average minority enrollment in the same fields in the three-year period immediately prior to the beginning of the current grant; (2) the percentage of minority students at grantee institutions enrolled in the fields of engineering or physical or biological sciences at the beginning of the previous school year, who are still enrolled at the same institution at the beginning of the current school year; and (3)(a) in four-year grantee institutions, the percentage of the minority students who enrolled in engineering or physical or biological sciences in the school year that was six years prior to the current school year, who graduated by the current year with a major in those fields; or (b) in two-year grantee institutions, the percentage of the minority students who enrolled in engineering or physical or biological sciences in the school year that was three years prior to the current school year, who graduated by the current year with a major in those fields, or transferred to a four-year institution.

VII. Agency Contact

For Further Information Contact: Dr. Bernadette Hence, U.S. Department of Education, 1990 K Street, NW., 6th Floor, Room 6071, Washington, DC 20006-8517. Telephone: (202) 219-7038, by fax (202) 502-7861, or by e-mail: Bernadette.Hence@ed.gov or OPE.MSEIP@ED.GOV; or

Carolyn Proctor, Telephone: (202) 502-7567, by fax (202) 502-7861, or by e-mail: Carolyn.Proctor@ed.gov or OPE.MSEIP@ED.GOV.

If you use a telecommunication device for the deaf (TDD), you may call the Federal Relay Services (FRS) at 1-800-877-8339.

Individuals with disabilities may obtain this document in an alternative format (e.g., Braille, large print, audiotape, or computer diskette) on request to the program contact persons listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: June 1, 2006.
James F. Manning,
Acting Assistant Secretary for Postsecondary Education.

[FR Doc. E6-8751 Filed 6-6-06; 8:45 am]

BILLING CODE 4000-01-P